DEPARTMENT OF HEALTH & HUMAN SERVICES

Health Resources and Services Administration

Notice of Class Deviation From Competition Requirements

AGENCY: Health Resources and Services Administration (HRSA), Department of Health and Human Services (HHS).

ACTION: Notice of Class Deviation from Competition Requirements: Program Expansion Supplement Request for Pediatric Audiology Supplements to ten Leadership Education in Neurodevelopmental and Other Related Disabilities (LEND) Maternal and Child Health (MCH) Training Programs.

SUMMARY: HRSA announces the award of a program expansion supplement in the amount of $70,000 each to ten Leadership Education in Neurodevelopment and Other Related Disabilities (LEND) grantees with existing graduate-level pediatric audiology programs. The purpose of the LEND Program is to enhance the clinical expertise and leadership skills of professionals dedicated to caring for children with neurodevelopmental and other related disabilities, including autism, and to increase the number of trained providers available to treat children with complex disabilities. The purpose of this notice is to award a 12-month supplement to LEND pediatric audiology programs to: (1) Strengthen the focus on testing for hearing loss in young infants and children with autism spectrum disorder (ASD) and other related neurodevelopmental disabilities (DD); and (2) to increase the number of pediatric audiology trainees with clinical and leadership skills to detect hearing loss in these infants/children, and to develop systems to increase enrollment of identified infants/children into early intervention programs.

SUPPLEMENTARY INFORMATION:

Intended Recipients of the Awards: University of Utah, UNC-Chapel Hill, University of Pittsburgh, University of Colorado, Vanderbilt University, University of Miami, University of South Dakota, University of Washington, Children's Hospital Boston, University of Wisconsin.

Amount of Each Non-Competitive Award: $70,000.

Period of Supplemental Funding: 7/1/2015-6/30/2016.

CFDA Number: 93.110.

Authority: Autism Act of 2006, Public Health Service (PHS) Act § 399BB(e)(1)(A), codified at 42 U.S.C. 280i-1.

Justification: The ten LEND programs discussed in this request are currently in year 5 of a 5-year project period. Approval of this request for a $70,000 program expansion supplement to each of the ten grantees will allow the programs to continue their work to strengthen the focus on testing for hearing loss in young infants and children with ASD and other related DD, to increase the number of pediatric audiology trainees with clinical and leadership skills to detect hearing loss in these infants/children, and to enroll identified infants/children into early intervention programs.

The identified LEND grantees are uniquely qualified to perform the expanded activity because for the past 6 years they have provided enhanced didactic and clinical training in pediatric audiology and have increased the number of trained pediatric audiologists to provide critical services in the community. If these grantees are awarded a program expansion, LEND will continue to increase the number of pediatric audiology trainees with clinical and leadership skills to detect hearing loss in infants/children with ASD and other related DD, and to enroll identified infants/children into early intervention programs. Each of the ten LEND Programs that receive this funding has made a commitment to three to four pediatric audiology trainees in their programs. Without a continuation of funds, the trainees will be left with an incomplete training experience. Disapproval of this request may also prevent families of children with ASD and other DD from receiving appropriate services through trained providers and create more burden on families to access early intervention services in a timely manner.

FOR FURTHER INFORMATION CONTACT: Denise Sofka, RD, MPH, Division of Maternal and Child Health Workforce Development, Maternal and Child Health Bureau, Health Resources and Services Administration, 5600 Fishers Lane, Room 18W55, Rockville, Maryland 20857; DSofka@hrsa.gov. Robyn J. Schulhof, MA, Division of Maternal and Child Health Workforce Development, Maternal and Child Health Bureau, Health Resources and Services Administration, 5600 Fishers Lane, Room 18W50, Rockville, Maryland 20857; RSchulhof@hrsa.gov.

Grantee/organization name | Grant No. | State | Current project start date | Current project end date | Fiscal year 2014 authorized funding level | Fiscal year 2015 estimated funding level
University of Colorado | T73MC11044 | CO | 7/1/2011 | 6/30/2016 | $544,765 | $614,765
University of Miami | T73MC00013 | FL | 7/1/2011 | 6/30/2016 | 712,385 | 782,385
Children's Hospital Boston | T73MC00020 | MA | 7/1/2011 | 6/30/2016 | 670,480 | 740,480
UNC-Chapel Hill | T73MC00030 | NC | 7/1/2011 | 6/30/2016 | 833,174 | 903,174
University of Pittsburgh | T73MC00036 | PA | 7/1/2011 | 6/30/2016 | 586,452 | 656,452
University of South Dakota | T73MC00037 | SD | 7/1/2011 | 6/30/2016 | 529,942 | 599,942
Vanderbilt University | T73MC00050 | TN | 7/1/2011 | 6/30/2016 | 577,381 | 648,289
University of Utah | T73MC00054 | UT | 7/1/2011 | 6/30/2016 | 747,435 | 817,435
University of Washington | T73MC00041 | WA | 7/1/2011 | 6/30/2016 | 814,466 | 884,466
University of Wisconsin | T73MC00044 | WI | 7/1/2011 | 6/30/2016 | 658,569 | 734,054

Dated: September 24, 2015.
James Macrae,
Acting Administrator.

[FR Doc. 2015-24965 Filed 9-30-15; 8:45 am]

BILLING CODE 4165-15-P